FEDERAL DEPOSIT INSURANCE CORPORATION

Agency Information Collection Activities: Submission for OMB Review; Comment Request

AGENCY: Federal Deposit Insurance Corporation (FDIC).

ACTION: Notice of information collection to be submitted to OMB for review and approval under the Paperwork Reduction Act.

SUMMARY: In accordance with requirements of the Paperwork Reduction Act of 1995 (“PRA”), 44 U.S.C. 3501 et seq., the FDIC may not conduct or sponsor, and the respondent is not required to respond to, an information collection unless it displays a currently valid Office of Management and Budget (OMB) control number. The FDIC, as part of its continuing effort to reduce paperwork and respondent burden, invites the general public and other Federal agencies to take this opportunity to comment on the renewal of existing information collections, as required by the PRA. On December 6, 2010 (75 FR 75675), the FDIC solicited public comment for a 60-day period on renewal of the following three information collections: Interagency Biographical and Financial Report (OMB No. 3064-0006), Interagency Bank Merger Act Application (OMB No. 3064-0015), Interagency Notice of Change in Control (OMB No. 3064-0019). No comments were received. Therefore, the FDIC hereby gives notice of submission of its renewal requests to OMB for review.

DATES: Comments must be submitted on or before April 11, 2011.

ADDRESSES: Interested parties are invited to submit written comments to the FDIC by any of the following methods:

• http://www.FDIC.gov/regulations/laws/federal/notices.html.

• E-mail: comments@fdic.gov Include the name of the collection in the subject line of the message.

• Mail: Gary A. Kuiper (202-898-3877), Counsel, Room F-1086, Federal Deposit Insurance Corporation, 550 17th Street, NW., Washington, DC 20429.

• Hand Delivery: Comments may be hand-delivered to the guard station at the rear of the 17th Street Building (located on F Street), on business days between 7 a.m. and 5 p.m.

All comments should refer to the relevant OMB control number. A copy of the comments may also be submitted to the OMB desk officer for the FDIC: Office of Information and Regulatory Affairs, Office of Management and Budget, New Executive Office Building, Washington, DC 20503.

FOR FURTHER INFORMATION CONTACT: Gary A. Kuiper, at the FDIC address above.

SUPPLEMENTARY INFORMATION:

Proposal To Renew the Following Currently Approved Collections of Information

1.Title: Interagency Biographical and Financial Report.

OMB Number: 3064-0006.

Frequency of Response: On occasion.

Affected Public: Financial Institutions.

Estimated Number of Respondents: 619.

Estimated Time per Response: 4 hours.

Total Annual Burden: 2,476 hours.

General Description of Collection: The Interagency Biographical and Financial Report is submitted to the FDIC by each director or officer of a proposed or operating financial institution applying for federal deposit insurance as a state nonmember bank. The FDIC uses the information to evaluate the general character of bank management as required by the Federal Deposit Insurance Act (12 U.S.C. 1828(c)).

2. Title: Interagency Bank Merger Act Application.

OMB Number: 3064-0015.

Frequency of Response: On occasion.

Affected Public: FDIC Insured Institutions.

Estimated Number of Respondents: 241.

Estimated Time per Response: 23.5 hours.

Total Annual Burden: 5,664 hours.

General Description of Collection: The Federal Deposit Insurance Act (12 U.S.C. 1828(c)) requires the use of this application for insured institutions seeking a merger, consolidation, or other combining transaction between nonaffiliated parties as well as to effect a corporate reorganization between affiliated parties.

3. Title: Interagency Notice of Change in Control.

OMB Number: 3064-0019.

Frequency of Response: On occasion.

Affected Public: Financial Institutions.

Estimated Number of Respondents: 45.

Estimated Time per Response: 30 hours.

Total Annual Burden: 1350 hours.

General Description of Collection: The Notice is submitted by any person proposing to acquire ownership control of an insured state nonmember bank. The information is used by the FDIC to determine whether the competence, experience, or integrity of any acquiring person indicates it would not be in the interest of the depositors of the bank, or in the public interest, to permit such persons to control the bank.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including the use of automated collection techniques or other forms of information technology. All comments will become a matter of public record.

Dated at Washington, DC, this 4th day of March, 2011.
Federal Deposit Insurance Corporation.
Robert E. Feldman,
Executive Secretary.

[FR Doc. 2011-5381 Filed 3-9-11; 8:45 am]

BILLING CODE 6741-01-P